DEPARTMENT OF HEALTH AND HUMAN SERVICES

Centers for Disease Control and Prevention

Healthcare Infection Control Practices Advisory Committee (HICPAC)

In accordance with section 10(a)(2) of the Federal Advisory Committee Act (Pub. L. 92-463), the Centers for Disease Control and Prevention (CDC) announces the following meeting of the aforementioned committee:

Times and Dates: 9:00 a.m.-5:00 p.m., June 14, 2012.

9:00 a.m.-12:00 p.m., June 15, 2012.

Place: CDC, Global Communications Center, Building 19, Auditorium B3, 1600 Clifton Road NE., Atlanta, Georgia, 30333

Status: Open to the public, limited only by the space available. Please register for the meeting at www.cdc.gov/hicpac.

Purpose: The Committee is charged with providing advice and guidance to the Secretary, the Assistant Secretary for Health and Human Services, the Director, CDC, the Director, National Center for Emerging and Zoonotic Infectious Diseases (NCEZID), and the Director, Division of Healthcare Quality Promotion regarding 1) the practice of healthcare infection control; 2) strategies for surveillance, prevention, and control of infections (e.g., nosocomial infections), antimicrobial resistance, and related events in settings where healthcare is provided; and 3) periodic updating of guidelines and other policy statements regarding prevention of healthcare-associated infections (HAIs) and healthcare-related conditions.

Matters To Be Discussed: The agenda will include updates on CDC's activities for HAIs including outbreaks and guidance on the use of single-dose vials; draft guideline for prevention of infections among patients in neonatal intensive care units (NICU); draft guideline for management of occupational exposures to HIV and recommendations for post-exposure prophylaxis; draft guidance for facility adjudication of infection data; and an update on National HealthCare Safety Network (NHSN) validation and surveillance definitions for central-line associated bloodstream infections and surgical site infections. Time will be available for public comment.

Agenda items are subject to change as priorities dictate.

Contact Person for More Information: Erin Stone, M.S., HICPAC, Division of Healthcare Quality Promotion, NCEZID, CDC, l600 Clifton Road NE., Mailstop A-07, Atlanta, Georgia, 30333, Telephone (404) 639-4045, Email: hicpac@cdc.gov.

The Director, Management Analysis and Services Office, has been delegated the authority to sign Federal Register notices pertaining to announcements of meetings and other committee management activities, for both the Centers for Disease Control and Prevention and the Agency for Toxic Substances and Disease Registry.

Dated: May 3, 2012.
Elaine L. Baker,
Director, Management Analysis and Services Office, Centers for Disease Control and Prevention.

[FR Doc. 2012-11547 Filed 5-11-12; 8:45 am]

BILLING CODE 4163-18-P